DEPARTMENT OF THE TREASURY

United States Mint

Privacy Act of 1974, as Amended; Altered System of Records

AGENCY: United States Mint, Treasury.

ACTION: Notice of alteration to a Privacy Act System of Records.

SUMMARY: In accordance with the requirements of the Privacy Act of 1974, as Amended, the United States Mint is altering its system of records, TREASURY/U.S. MINT .009—Mail-order and Catalogue Sales System (MACS), Customer Mailing List, Order Processing Record for Coin Sets, Medals and Numismatic Items, and Records of Undelivered Orders, Product Descriptions, Availability and Inventory—Treasury/United States Mint.

DATES: Comments must be received not later than March 1, 2007. The proposed altered system will become effective March 12, 2007, unless the United States Mint receives comments which would result in a contrary determination.

ADDRESSES: You may submit comments by any of the following methods:

Fax: (202) 756-6153.

Mail: United States Mint, Attn: Disclosure Officer, 8th Floor, 801 9th Street, NW., Washington, DC 20220.

Comments received will be made available for inspection, upon appointment, by contacting the United States Mint's Disclosure Officer at (202) 354-6788.

FOR FURTHER INFORMATION CONTACT: Kathleen Saunders-Mitchell, Disclosure Officer, United States Mint, 8th Floor, 801 9th Street, NW., Washington, DC 20220. Telephone number: (202) 354-6788.

SUPPLEMENTARY INFORMATION: The system notice for the system entitled “Mail-order and Catalogue Sales System (MACS), Customer Mailing List, Order Processing Record for Coin Sets, Medal and Numismatic Items, and Records of Undelivered Orders, Product Descriptions, Availability and Inventory-Treasury/United States Mint” was last published in its entirety in the Federal Register, Volume 70, page 34183 on June 13, 2005.

Modifications are planned for this system to include the Presidential $1 Coin Program Data Collection which will be used to collect and store certain data from individuals and entities that request information and promotional materials (such as posters, stickers, bookmarks, brochures, and pamphlets) offered by the United States Mint concerning the Presidential $1 Coin Program. The United States Mint is offering these materials and information to assist in fulfillment of obligations under the Presidential $1 Coin Act of 2005 (Pub. L. 109-145). Information proposed to be collected and stored includes the name of the requesting individual and the requesting individual's address, phone number, and e-mail address; the information, materials and quantity requested; whether the requester is asking for materials to be automatically shipped each time materials are offered; and the intended use of the requested materials and information.

United States Mint employees will administer the project, along with Mint contractors and subcontractors who will assist the Mint in managing the information collection and fulfilling requests.

The information will be collected by direct upload via an online form appearing on the United States Mint's Web site that leads to the contractor's electronic information systems. Requesters that call, mail or make requests by other means will likely be guided to the Web site to complete and online request. The United States Mint does not plan to collect data for the system other than through this Web site.

Once collected, the information will be maintained on the contractor's electronic systems in a secured environment. The public is not obligated to provide this information, but when requests are made, the information must be provided in order for the Mint to verify, respond and provide requested materials. Provided information will be used solely by authorized United States Mint personnel and contractors for business purpose of: properly fulfilling orders for program information and materials; tracking order fulfillment status; and performing statistical analyses and generating reports to monitor the effectiveness of the program and the demand for program materials and information.

The proposed alterations to this system would amend the categories of records in the system, in addition to the categories of records currently in the system, to include the phone numbers and email addresses of individuals covered in new initiative. The proposed altered system will also capture the information being requested by the requester; the quantity of the requested information; whether the requester is asking for materials to be automatically shipped each time different materials are offered; and the requester's intended use of the requested materials and information.

The legal authority to maintain the system needs to be altered to include 31 U.S.C. 5136. Enacted in Public Law 104-52, Title V, Sec. 552, November 19, 1995, 109 Stat. 494, this authority established a United States Mint Public Enterprise Fund, into which receipts from Mint operations and programs shall be deposited.

The existing purpose(s) of the system are being amended to conform to the current Privacy Impact Assessment (PIA) for the new initiative and permit the United States Mint to: maintain a mailing list of customers and interested parties to provide continuous communication and/or promotional materials, as requested, about existing and upcoming numismatic product offerings, circulating coins, and activities; record and maintain records of customer, interested party and order information and requests for promotional materials, and capture orders through each stage of the order life cycle; research and resolve orders that were not successfully delivered to customers and interested parties, and maintain a list of its products and monitor and maintain product and promotional material inventory levels to meet customer and interested party demand while remaining within legislatively-mandated mintage levels as applicable.

At present the eight (8) routine uses maintained in this system provide the proper level of disclosures under the system. While continuing to authorize these disclosures, the proposed added routine uses would extend the authority to he United States Mint to make disclosures to contractors performing work under a contract or agreement for the Federal government, when necessary to accomplish an agency function related to this system of records, in compliance with the Privacy Act of 1974, as amended; and release to appropriate agencies, entities, and persons when (1) it is suspected or confirmed that the security or confidentiality of information in the system of records has been compromised; (2) the Mint has determined that as a result of the suspected or confirmed compromise there is a risk of harm to economic or property interests, identity theft or fraud, or harm to the security or integrity of this system or other systems or programs (whether maintained by the Mint or another agency or entity) that rely upon the compromised information; and (3) the disclosure made to such agencies, entities, and persons is reasonably necessary to assist in connection with the Mint's efforts to respond to the suspected or confirmed compromise and prevent, minimize, or remedy such harm.

Lastly, records in the current system of records notice are retrieved by name, customer number or order number only. The current system of records notice must be altered to indicate that records will also be retrieved by address, phone number, order date, whether or not the account is ‘flagged’ (such as due to an unusual quantity or an order requiring verification for processing and completion), shipment tracking number, and any internal identification number that may be assigned to the request. This alteration conforms to the current PIA and would allow for the proper administration of the system.

As required by 5 U.S.C. 552a(r) and Appendix I to OMB Circular A-130, “Federal Agency Responsibilities for Maintaining Records About Individuals.” dated November 30, 2000, a report of an altered system of records has been submitted to the Committee on Government Reform of the House of Representatives, the Committee on Homeland Security and Governmental Affairs of the Senate, and the Office of Management and Budget.

For the above reasons, the United States Mint proposes to alter its system of records notice by amending the categories of records in the system to conform to the altered system and the associated PIA, amending the legal authority(s) to include 31 U.S.C. 5136, amending the existing purpose(s) of the system to conform to the altered system and the associated PIA, create two (2) new routine uses in addition to the eight (8) currently contained in the system, and amend the retrievability section of the current system to conform to the altered system and the associated PIA, as set forth and published in its entirety below:

Treasury/U.S. Mint .009

System Name:

Mail-order and Catalogue Sales System (MACS), Customer Mailing List, Order Processing Record for Coin Sets, Medals and Numismatic Items, and records of undelivered orders, product descriptions, availability and Inventory-Treasury/United States Mint.

Categories of Records in the System:

Description of the change: The current text is revised to read as follows: “Name, addresses, phone numbers, e-mail addresses, order history of customers purchasing numismatic items, of individuals who wish to receive notification of numismatic offerings by the Mint, and of individuals requesting information and promotional materials (and, for those requesting Presidential $1 Coin Program promotional materials, their intended use of requested materials and information).”

Purpose(s):

Description of the change: The current text is revised to read as follows:

“The purpose of this system is to permit the United States Mint to: maintain a mailing list of customers and interested parties to provide continuous communication and/or promotional materials, as requested, about existing and upcoming numismatic product offerings, circulating coins and activities; record and maintain records of customer, interested party and order information and requests for promotional materials, and capture orders through each stage of the order life cycle; research and resolve orders that were not successfully delivered to customers and interested parties; and maintain a list of its products and monitor and maintain product and promotional material inventory levels to meet customer and interested party demand while remaining within legislatively mandated mintage levels as applicable.”

Authority for Maintenance of the System:

Description of the change: The current test is revised to read as follows: “31 U.S.C. 5111, 5112, 5132, 5136, and 31 C.F.R. part 92.”

Routine Uses of Records Maintained in the System, including Categories of Users and the Purpose of Such Uses:

Description of the change: Add the two new routine uses #9, and #10 to read as follows:

(9) “Contractors performing work under a contract or agreement for the Federal government, when necessary to accomplish an agency function related to this system of records, in compliance with the Privacy Act of 1974, as amended.”

(10) “Appropriate agencies, entities, and persons when (1) it is suspected or confirmed that the security or confidentiality of information in the system of records has been compromised; (2) the Mint has determined that as a result of the suspected or confirmed compromise, there is a risk of harm to economic or property interests, identity theft or fraud, or harm to the security or integrity of this system or other systems or programs (whether maintained by the Mint or another agency or entity) that rely upon the compromised information; and (3) the disclosure made to such agencies, entities, and persons is reasonably necessary to assist in connection with the Mint's efforts to respond to the suspected or confirmed compromise and prevent, minimize, or remedy such harm.”

Retrievability:

Description of the change: The current text is revised to read as follows:

“Name, address, phone number, customer number or order number, order date, whether or not the account is ‘flagged’ (such as due to an unusual quantity or an order requiring verification for processing and completion), shipment tracking number, and any internal identification number that may be assigned to the request.”

* * * * *

Dated: January 24, 2007.
Wesley T. Foster,
Acting Assistant Secretary for Management.

[FR Doc. 07-396 Filed 1-29-07; 8:45 am]

BILLING CODE 4810-37-M